DEPARTMENT OF HOMELAND SECURITY

Coast Guard

[Docket No. USCG-2014-1053]

Towing Safety Advisory Committee; March 2015 Meeting

AGENCY: Coast Guard, Department of Homeland Security.

ACTION: Notice of Federal Advisory Committee meeting.

SUMMARY: The Towing Safety Advisory Committee will meet in Louisville, Kentucky March 25 and 26, 2015 to review and discuss recommendations from its Subcommittees and to receive briefs listed in the agenda under SUPPLEMENTARY INFORMATION. All meetings will be open to the public. The Subcommittees will meet on Wednesday, March 25, 2015 and work on five assigned tasks listed in the referenced agenda. The full Towing Safety Advisory Committee will meet on Thursday, March 26, 2015.

DATES: The Towing Safety Advisory Committee Subcommittees will meet on Wednesday, March 25, 2015 from 8 a.m. to 5 p.m. The full Towing Safety Advisory Committee will meet on Thursday, March 26, 2015, from 8 a.m. to 5:30 p.m. These meetings may close early if the Committee has completed its business. All submitted written materials, comments, and requests to make an oral presentation at the meetings should reach Mr. William J. Abernathy, Alternate Designated Federal Officer for the Towing Safety Advisory Committee, no later than March 16, 2015. For contact information, please see the FOR FURTHER INFORMATION CONTACT section below. Any written material submitted by the public will be distributed to the Towing Safety Advisory Committee and become part of the public record.

ADDRESSES: All meetings will be held at the Auditorium, Muhammad Ali Center, One Muhammad Ali Plaza, 144 North Sixth Street, Louisville, KY 40202. The Telephone Number for the Muhammad Ali Center is (502)992-5326 and the Fax is (502)589-4905.

For information on facilities or services for individuals with disabilities or to request special assistance at the meeting, contact the individuals listed in the FOR FURTHER INFORMATION CONTACT section, as soon as possible.

To facilitate public participation, we are inviting public comment on the issues to be considered by the Committee as listed in the “Agenda” section below. Written comments must be submitted no later than March 16, 2015 if committee review is desired prior to the meeting. Comments must be identified by Docket No. USCG-2014-1053 and submitted by one of the following methods:

• Federal Rulemaking Portal: http://www.regulations.gov. Follow the instructions for submitting comments. (Preferred method to avoid delays in processing.)

• Mail: Docket Management Facility (M-30), U.S. Department of Transportation, West Building Ground Floor, Room W12-140, 1200 New Jersey Avenue SE., Washington, DC 20590-0001. We encourage use of electronic submissions to minimize mail security screening delays.

• Fax: 202-493-2251.

• Hand delivery: Same as mail address above, between 9 a.m. and 5 p.m., Monday through Friday, except Federal holidays. The telephone number is 202-366-9329.

• To avoid duplication, please use only one of these methods.

Instructions: All submissions received must include the words “Department of Homeland Security” and the docket number of this action. All comments will be posted as submitted at http://www.regulations.gov including any personal information provided. You may review a Privacy Act notice regarding our public dockets in the January 17, 2008, issue of the Federal Register (73 FR 3316).

Docket: For access to the docket to read documents or comments related to this notice, go to http://www.regulations.gov insert USCG-2014-1053 in the Search box, press Enter, and then click on the item you wish to view.

FOR FURTHER INFORMATION CONTACT: Mr. William J. Abernathy, Alternate Designated Federal Officer for the Towing Safety Advisory Committee; Commandant (CG-OES-2), U.S. Coast Guard, 2703 Martin Luther King Jr. Avenue SE., Stop 7509, Washington, DC 20593-7509; telephone 202-372-1363, fax 202-372-8382; or email William.J.Abernathy@uscg.mil; or Lieutenant Commander William A. Nabach, Designated Federal Officer; telephone 202-372-1386, fax 202-372-8382; or email william.a.nabach@uscg.mil. If you have any questions on viewing or submitting material to the docket, call Cheryl Collins, Program Manager, Docket Operations, telephone 202-366-9826 or 1-800-647-5527.

SUPPLEMENTARY INFORMATION: Notice of this meeting is given under the Federal Advisory Committee Act, 5 U.S.C. Appendix. This Committee is established in accordance with, and operates under the provisions of, the Federal Advisory Committee Act. As stated in 33 U.S.C. 1231a, the Towing Safety Advisory Committee provides advice and recommendations to the Department of Homeland Security on matters relating to shallow-draft inland and coastal waterway navigation and towing safety.

Agenda of Meetings

The Subcommittees will meet on March 25, 2015, from 8 a.m. to 5 p.m., to work on their specific task assignments:

(1) Recommendations Regarding Automation Equipment, Testing, Assessment, and Trial Periods on Towing Vessels.

(2) Recommendations for the Maintenance, Repair, and Utilization of Towing Equipment, Lines, and Couplings.

(3) Recommendations concerning procedures for conducting drug tests on board towing vessels.

(4) Recommendations for Improvement of Coast Guard Marine Casualty Reporting.

(5) Recommendations to Establish Criteria for Identification of Air Draft for Towing Vessels and Tows.

(6) Recommendations concerning the MODU KULLUK Report of Investigation.

On March 26, 2015, from 8 a.m. to 5:30 p.m., the Towing Safety Advisory Committee will meet to hear remarks by:

(1) Captain Richard Timme, USCG, Commander, Sector Ohio River Valley.

(2) Ms. Helen Brohl, Director, U.S. Committee on the Maritime Transportation System, U.S. Department of Transportation.

The Committee will also receive reports concerning the following:

(1) Recommendations Regarding Automation Equipment, Testing, Assessment, and Trial Periods on Towing Vessels, Initial Report.

(2) Recommendations for the Maintenance, Repair and Utilization of Towing Equipment, Lines and Couplings, Interim Report.

(3) Recommendations for Drug Testing Procedures on board Towing Vessels, Initial Report.

(4) Recommendations for Improvement of Coast Guard Marine Casualty Reporting, Final Report.

(5) Recommendation to Establish Criteria for Identification of Air Draft for Towing Vessels and Tows, Interim Report.

(6) Recommendations concerning the MODU KULLUK Report of Investigation, Interim Report.

There will be a comment period for Towing Safety Advisory Committee members and a comment period for the public after each report presentation, but before each is voted on by the Committee. The Committee will review the information presented on each issue, deliberate on any recommendations presented in the Subcommittees' reports, and formulate recommendations for the Department's consideration.

A copy of each draft report and presentations, and the meeting agenda will be available at: https://homeport.uscg.mil/tsac.

An opportunity for oral comments by the public will be provided during the meeting on March 26, 2015. Speakers are requested to limit their comments to 3 minutes. Please note the public oral comment period may end before 5:30 p.m., if the Committee has finished its business earlier than scheduled. Please contact Mr. William J. Abernathy, listed above in the FOR FURTHER INFORMATION CONTACT section to register as a speaker.

Minutes

Minutes from the meeting will be available for public review and copying within 90 days following the close of the meeting and can be accessed from the Coast Guard Homeport Web site http://homeport.uscg.mil/tsac.

Notice of Future 2015 Towing Safety Advisory Committee Meetings

To receive automatic email notices of any future Towing Safety Advisory Committee meetings in 2015, go to the online docket, USCG-2014-1053 (http://www.regulations.gov/#!docketDetail;D=USCG-2014-1053), and select the sign-up-for-email-alerts option. We plan to use the same docket number for all Towing Safety Advisory Committee meeting notices in 2015, so if another 2015 meeting notice is published you will receive an email alert from www.regulations.gov when the notice appears in this docket.

Dated: March 4, 2015.
J.G. Lantz,
Director of Commercial Regulations and Standards, United States Coast Guard.

[FR Doc. 2015-05490 Filed 3-9-15; 8:45 am]

BILLING CODE 9110-04-P